DEPARTMENT OF TRANSPORTATION

Federal Aviation Administration

14 CFR Part 39

[Docket No. FAA-2007-28810; Directorate Identifier 2007-NM-104-AD]

RIN 2120-AA64

Airworthiness Directives; Hawker Beechcraft Model Hawker 800XP Airplanes

AGENCY: Federal Aviation Administration (FAA), Department of Transportation (DOT).

ACTION: Notice of proposed rulemaking (NPRM).

SUMMARY: The FAA proposes to adopt a new airworthiness directive (AD) for certain Hawker Beechcraft Model Hawker 800XP airplanes. This proposed AD would require doing an inspection of panel DA wiring for clearance and for signs of chafing or exposed conductors, and repairing or replacing the wires and cable ties if necessary. This proposed AD results from reports of wire bundle interference in the DA panel, chafed wire bundles, and exposed conductors. We are proposing this AD to prevent chafing of wire bundles, which could cause an electrical short and consequent loss of several functions essential for safe flight and smoke or fire in the flight compartment and main cabin.

DATES: We must receive comments on this proposed AD by September 13, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: U.S. Department of Transportation, Docket Operations, M-30, West Building Ground Floor, Room W12-140, 1200 New Jersey Avenue SE., Washington, DC 20590.

• Fax: (202) 493-2251.

• Hand Delivery: Room W12-140 on the ground floor of the West Building, 1200 New Jersey Avenue SE., Washington, DC, between 9 a.m. and 5 p.m., Monday through Friday, except Federal holidays.

Contact Hawker Beechcraft Corporation, 9709 East Central, Wichita, Kansas 67206, for the service information identified in this proposed AD.

FOR FURTHER INFORMATION CONTACT: Philip Petty, Aerospace Engineer, Electrical Systems and Avionics, ACE-119W, FAA, Wichita Aircraft Certification Office, 1801 Airport Road, Room 100, Mid-Continent Airport, Wichita, Kansas 67209; telephone (316) 946-4139; fax (316) 946-4107.

SUPPLEMENTARY INFORMATION:

Comments Invited

We invite you to submit any relevant written data, views, or arguments regarding this proposed AD. Send your comments to an address listed in the ADDRESSES section. Include the docket number “FAA-2007-28810; Directorate Identifier 2007-NM-104-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Operations office between 9 a.m. and 5 p.m., Monday through Friday, except Federal holidays. The Docket Operations office (telephone (800) 647-5527) is located on the ground level of the West Building at the DOT street address stated in the ADDRESSES section. Comments will be available in the AD docket shortly after the Docket Management System receives them.

Discussion

We have received reports of wire bundle interference in the DA panel, chafed wire bundles, and exposed conductors, on Hawker Beechcraft Model Hawker 800XP airplanes. These wire bundles consist of wiring for various airplane systems (e.g., primary or secondary flight displays, air data systems, communications, navigation, warnings, and numerous other airplane systems). The cause has been attributed to improper wire routing resulting from inadequate detailed assembly and installation instructions during production of the airplanes. Chafing of wire bundles, if not corrected, could cause an electrical short and consequent loss of several functions essential for safe flight and smoke or fire in the flight compartment and main cabin.

Relevant Service Information

We have reviewed Raytheon Service Bulletin SB 24-3772, dated February 2006. The service information describes procedures for doing a detailed inspection of panel DA wiring for clearance and for signs of chafing or exposed conductors, and repairing or replacing the wires and cable ties with new ones, if necessary. Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously, except as discussed under “Difference Between the Proposed AD and Referenced Service Information.”

Difference Between Proposed Rule and Referenced Service Information

Operators should note that, although the Accomplishment Instructions of the referenced service information describe procedures for submitting a sheet recording compliance with the service information, this proposed AD would not require that action.

Costs of Compliance

There are about 438 airplanes of the affected design in the worldwide fleet. This proposed AD would affect about 292 airplanes of U.S. registry. The proposed inspection would take about 2 work hours per airplane, at an average labor rate of $80 per work hour. Based on these figures, the estimated cost of the proposed AD for U.S. operators is $46,720, or $160 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Hawker Beechcraft Corporation: Docket No. FAA-2007-28810; Directorate Identifier 2007-NM-104-AD.

Comments Due Date

(a) The FAA must receive comments on this AD action by September 13, 2007.

Affected ADs

(b) None.

Applicability

(c) This AD applies to Hawker Beechcraft Model Hawker 800XP airplanes, certificated in any category; as identified in Raytheon Service Bulletin SB 24-3772, dated February 2006.

Unsafe Condition

(d) This AD results from reports of wire bundle interference in the DA panel, chafed wire bundles, and exposed conductors. We are issuing this AD to prevent chafing of wire bundles, which could cause an electrical short and consequent loss of several functions essential for safe flight and smoke or fire in the flight compartment and main cabin.

Compliance

(e) You are responsible for having the actions required by this AD performed within the compliance times specified, unless the actions have already been done.

Inspection and Corrective Actions

(f) Within 600 flight hours or 12 months after the effective date of this AD, whichever occurs first, do a detailed inspection of panel DA wiring for clearance and for signs of chafing or exposed conductors, in accordance with the Accomplishment Instructions of Raytheon Service Bulletin SB 24-3772, dated February 2006. If any wire is touching the panel, structure, or equipment, or if evidence of chafing or exposed conductors exists, before further flight, repair or replace the wires and cable ties with new ones, in accordance with the service bulletin.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(g) Although Raytheon Service Bulletin SB 24-3772, dated February 2006, specifies to submit certain information to the manufacturer, this AD does not include that requirement.

Alternative Methods of Compliance (AMOCs)

(h)(1) The Manager, Wichita Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on July 18, 2007.
Stephen P. Boyd,
Acting Manager, Transport Airplane Directorate, Aircraft Certification Service.

[FR Doc. E7-14637 Filed 7-27-07; 8:45 am]

BILLING CODE 4910-13-P